DEPARTMENT OF THE INTERIOR

Fish and Wildlife Service

[FWS-R2-ES-2017-N108; FXES11140200000-178-FF02ENEH00]

Notice of Availability; Draft Environmental Assessment for a Draft Amendment To Add the Northern Mexican Gartersnake to the Lower Colorado River Multi-Species Conservation Program

AGENCY: Fish and Wildlife Service, Interior.

ACTION: Notice of availability of documents; request for public comment.

SUMMARY: We, the U.S. Fish and Wildlife Service, as the lead Federal agency, along with the Bureau of Reclamation as a cooperating agency and the implementing agency for the Lower Colorado River Multi-Species Conservation Program (LCR MSCP), announce the availability of a draft environmental assessment (EA) under the National Environmental Policy Act. The draft EA evaluates the impacts of, and alternatives to, amendment of the existing Endangered Species Act permit for the LCR MSCP, in order to add the northern Mexican gartersnake as a covered species, and the impacts of implementation of the amended LCR MSCP.

DATES: To ensure consideration, written comments must be received or postmarked on or before December 28, 2017. Any comments we receive after the closing date or not postmarked by the closing date may not be considered in the final decision on this action.

ADDRESSES: Obtaining Documents:

• Internet: You may obtain copies of the draft EA, which includes the draft amendment to the LCR MSCP, on the U.S. Fish and Wildlife Service's Web site at https://www.fws.gov/southwest/es/arizona/.

• U.S. Mail: A limited number of CD-ROM and printed copies of the draft EA and associated draft amendment to the LCR MSCP are available, by request, from the Field Supervisor, Arizona Ecological Services Field Office, 9828 N. 31st Avenue #C3, Phoenix, AZ 85051; by phone at 602-242-0210; or by fax at 602-242-2513. Please note that your request is in reference to the draft amended LCR MSCP for northern Mexican gartersnake.

• In-Person: Copies of the draft EA and associated draft amendment to the LCR MSCP are also available for public inspection and review at the following locations, by appointment and written request only, 8 a.m. to 4:30 p.m.:

○ U.S. Fish and Wildlife Service, 500 Gold Avenue SW., Room 6034, Albuquerque, NM 87102.

○ Arizona Ecological Services Office (Phoenix; see information under U.S. Mail, above).

Submitting Comments: You may submit comments by one of the following methods.

• U.S. Mail: Arizona Ecological Services Office (Phoenix; see information under U.S. Mail, Obtaining Documents, above).

• Electronically: incomingazcorr@fws.gov or fw2_hcp_permits@fws.gov.

FOR FURTHER INFORMATION CONTACT: Steve Spangle, Field Supervisor (see contact information for Arizona Ecological Services Field Office (Phoenix) in ADDRESSES.

SUPPLEMENTARY INFORMATION: We, the U.S. Fish and Wildlife Service (Service), as the lead Federal agency, along with the Bureau of Reclamation (Reclamation) as a cooperating agency and the implementing agency for the Lower Colorado River Multi-Species Conservation Program (LCR MSCP), announce the availability of a draft environmental assessment (EA) under the National Environmental Policy Act of 1969, as amended (42 U.S.C. 4321 et seq.; NEPA). The draft EA evaluates the impacts of, and alternatives to, amendment of an existing permit for the LCR MSCP under section 10(a)(1)(B) of the Endangered Species Act of 1973, as amended (ESA; 16 U.S.C. 1531 et seq.), in order to add the northern Mexican gartersnake (Thamnophis eques) as a covered species, as well as the impacts of implementation of the amended LCR MSCP.

Under the proposed amendment, there are no proposed changes to covered actions; no changes to the covered area; and no extension of the time period of permit coverage. Permittees with existing LCR MSCP certificates of inclusion are bound by the terms and conditions of their existing requirements. The amendment is not expected to trigger any new environmental consequences that were not identified in the LCR MSCP final programmatic environmental impact statement/environmental impact report (LCR MSCP EIS/EIR), which was prepared for the original LCR MSCP, or any new impacts to local economies or cultural resources. Nor are there any expected changes to direct, indirect, and cumulative effects, beyond those identified for biological resources.

Coverage for incidental take of the northern Mexican gartersnake will include the entire program area, as defined in the record of decision (ROD) for the LCR MSCP EIS/EIR, dated April 2005. This includes areas up to and including the full-pool elevation of Lakes Mead, Mohave, and Havasu and the historical floodplain of the Colorado River to the Southerly International Boundary with Mexico. The ROD also included off-site conservation areas for implementing the LCR MSCP. The LCR MSCP, with Reclamation as the implementing agency, will manage 512 acres of LCR MSCP-created marsh for the northern Mexican gartersnake. Of the 5,940 acres of LCR MSCP-created cottonwood-willow, 984 acres will be managed near marshes for the northern Mexican gartersnake.

Background

The original LCR MSCP permit was approved on April 4, 2005 (69 FR 75556), and extends through April 30, 2055. The LCR MSCP is a combined ESA section 10(a)(1)(B) and ESA section 7 approach to ESA compliance for implementation of covered activities for non-Federal (section 10) and Federal (section 7) participants.

The LCR MSCP is a habitat-based program that is responsible for the creation and management of land-cover types that benefit multiple covered species, including 5,940 acres of cottonwood-willow; 1,320 acres of honey mesquite; 512 acres of marsh; and 360 acres of backwater.

The LCR MSCP currently includes measures necessary to minimize and mitigate impacts to the 26 listed and unlisted species and their habitats covered by the plan. Take of covered species is incidental to covered activities associated with river operations and, water and power delivery to Arizona, California, and Nevada. The LCR MSCP provides incidental take coverage to the following listed species;

Razorback sucker (Xyrauchen texanus) Endangered

Bonytail chub (Gila elegans) Endangered

Humpback chub (Gila cypha) Endangered

Yuma Ridgway's (clapper) rail (Rallus obsoletus [=longirostris] yumanensis) Endangered

Southwestern willow flycatcher (Empidonax traillii extimus) Endangered

Yellow-billed cuckoo (Coccyzus americanus) Threatened

During the initial development of the LCR MSCP in 2005, the northern Mexican gartersnake was not considered for coverage, because the species was believed to be extirpated within the planning area. However, subsequently, the species was found to be present. On July 8, 2014, the Service listed the northern Mexican gartersnake as threatened under the ESA, and critical habitat was proposed, including portions of the Bill Williams River. In 2012, northern Mexican gartersnakes were detected in portions of the Bill Williams River, between Alamo Dam and the Colorado River. In 2015, the northern Mexican gartersnake was confirmed at the LCR MSCP's Beal Lake Conservation Area on Havasu National Wildlife Refuge, on the east side of the Colorado River, where it had been considered extirpated.

Public Availability of Comments

Written comments we receive become part of the public record associated with this action. Before including your address, phone number, email address, or other personal identifying information in your comment, you should be aware that your entire comment—including your personal identifying information—may be made publicly available at any time. While you can request in your comment that we withhold your personal identifying information from public review, we cannot guarantee that we will be able to do so. We will not consider anonymous comments. All submissions from organizations or businesses, and from individuals identifying themselves as representatives or officials of organizations or businesses, will be made available for public disclosure in their entirety.

Authority

We provide this notice under section 10(c) of the ESA (16 U.S.C. 1531 et seq.) and its implementing regulations (50 CFR 17.22) and NEPA (42 U.S.C. 4321 et seq.) and its implementing regulations (40 CFR 1506.6).

Amy Lueders,
Regional Director, Southwest Region, Albuquerque, New Mexico.

[FR Doc. 2017-25650 Filed 11-27-17; 8:45 am]

BILLING CODE 4333-15-P